DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Admittance to Practice and Roster of Registered Patent Attorneys and Agents Admitted to Practice Before the United States Patent and Trademark Office (USPTO).

Form Number(s): PTO-158, PTO-158A, 158T, 158LS, PTO-275, PTO-107A, PTO-1209, PTO-2126, PTO-2149, PTO-2150.

Agency Approval Number: 0651-0012.

Type of Request: Revision of a currently approved collection.

Burden: 98,028 hours annually.

Number of Respondents: 93,340 responses per year.

Avg. Hours per Response: The USPTO estimates that it will take the public between 1 minute (0.02 hours) and 40 hours, depending upon the complexity of the situation, to gather the necessary information, prepare, and submit the forms and requirements in this collection.

Needs and Uses: This information is required by 35 U.S.C. 2(b)(2)(D) and administered by the USPTO through 37 CFR 1.21, 10.14, 10.170, 11.2, 11.5-11.14 and 11.28. The information is used by the Director of the Office of Enrollment and Discipline (OED) to determine whether the applicant for registration is of good moral character and repute; has the necessary legal, scientific, and technical qualifications; and is otherwise competent to advise and assist applicants in the presentation and prosecution of patent applications.

Note that the USPTO is approved to collect a fee under 37 CFR 11.8 and is seeking continued approval to collect that fee. The USPTO has not implemented the changes from that final rule or the new information collection activities associated with that rulemaking; however, we continue to include the estimates of that burden in this request. The USPTO at this time is not collecting that fee but is retaining an estimated burden for the fee collection. If the agency chooses to begin collecting the fee, it will inform the public.

Please Note ALSO that the USPTO is requesting continued approval for items currently approved but not collected that are associated with 37 CFR 11.13 and were introduced as collection items on June 24, 2004 by the final rule 0651-AB55, Changes to Representation of Others Before the United States Patent and Trademark Office (60 Fed. Reg. 35428). OMB has previously approved the collection of these items. The USPTO has not implemented the changes from that proposed rule or the new information collection activities associated with that rulemaking; however, we continue to include the estimates of that burden in this request.

If the agency determines that it will not implement the Rule and/or determines that the fee under 37 CFR 11.8 will never be collected, the agency will request a removal of the burden estimates from this collection.

Affected Public: Individuals or households; businesses or other for-profits; not-for-profit institutions.

Frequency: On occasion.

Respondent's Obligation: Required to obtain or retain benefits.

OMB Desk Officer: Nicholas A. Fraser, e-mail: Nicholas_A_Fraser@omb.eop.gov.

Once submitted, the request will be publicly available in electronic format through the Information Collection Review page at http://www.reginfo.gov.

Paper copies can be obtained by:

• E-mail: InformationCollection@uspto.gov. Include “0651-0012 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before June 21, 2010 to Nicholas A. Fraser, OMB Desk Officer, via e-mail at Nicholas_A_Fraser@omb.eop.gov or by fax to 202-395-5167, marked to the attention of Nicholas A. Fraser.

Dated: May 17, 2010.
Susan K. Fawcett,
Records Officer, USPTO, Office of the Chief Information Officer.

[FR Doc. 2010-12214 Filed 5-20-10; 8:45 am]

BILLING CODE 3510-16-P